INTERNATIONAL TRADE COMMISSION

[Investigation No. 731-TA-991 (Final)]

Silicon Metal From Russia

Determination

On the basis of the record ¹ developed in the subject investigation, the United States International Trade Commission (Commission) determines,² pursuant to section 735(b) of the Tariff Act of 1930 (19 U.S.C. 1673d(b)) (the Act), that an industry in the United States is materially injured by reason of imports from Russia of silicon metal,³ provided for in subheadings 2804.69.10 and 2804.69.50 of the Harmonized Tariff Schedule of the United States, that have been found by the Department of Commerce (Commerce) to be sold in the United States at less than fair value (LTFV). The Commission further determines that critical circumstances do not exist with regard to imports of silicon metal from Russia that are subject to Commerce's affirmative critical circumstances determination.

¹ The record is defined in sec. 207.2(f) of the Commission's rules of practice and procedure (19 CFR 207.2(f)).

² Chairman Okun did not participate in this investigation.

³ For purposes of this investigation, the Department of Commerce has defined the subject merchandise as “silicon metal, which generally contains at least 96.00 percent but less than 99.99 percent silicon by weight. The merchandise covered by this investigation also includes silicon metal from Russia containing between 89.00 and 96.00 percent silicon by weight, but containing more aluminum than the silicon metal which contains at least 96.00 percent but less than 99.99 percent silicon by weight.”

Background

The Commission instituted this investigation effective March 7, 2002, following receipt of a petition filed with the Commission and Commerce by Globe Metallurgical Inc., Cleveland, OH; SIMCALA, Inc., Mt. Meigs, AL; the International Union of Electronic, Electrical, Salaried, Machine and Furniture Workers (I.U.E.-C.W.A, AFL-CIO, C.L.C., Local 693), Selma, AL; the Paper, Allied-Industrial Chemical and Energy Workers International Union (Local 5-89), Boomer, WV; and the United Steel Workers of America (AFL-CIO, Local 9436), Niagara Falls, NY. The final phase of the investigation was scheduled by the Commission following notification of a preliminary determination by Commerce that imports of silicon metal from Russia were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 30, 2002 (67 FR 61351). The hearing was held in Washington, DC, on February 5, 2003, and all persons who requested the opportunity were permitted to appear in person or by counsel.

The Commission transmitted its determination in this investigation to the Secretary of Commerce on March 19, 2003. The views of the Commission are contained in USITC Publication 3584 (March 2003), entitled Silicon Metal from Russia: Investigation No. 731-TA-991 (Final).

Issued: March 18, 2003.
By order of the Commission.
Marilyn R. Abbott,
Secretary to the Commission.

[FR Doc. 03-6942 Filed 3-21-03; 8:45 am]

BILLING CODE 7020-02-P